DEPARTMENT OF JUSTICE

Antitrust Division

Notice Pursuant to the National Cooperative Research and Production Act of 1993—Advanced Technology Institute: National Shipbuilding Research Program (“NSRP”)

Notice is hereby given that, on January 13, 2003, pursuant to section 6(a) of the National Cooperative Research and Production Act of 1993, 15 U.S.C. 4301 et seq. (“the Act”), Advanced Technology Institute has filed written notifications simultaneously with the Attorney General and the Federal Trade Commission disclosing changes in the membership of the National Shipbuilding Research Program (“NSRP”). The notifications were filed for the purpose of extending the Act's provisions limiting the recovery of antitrust plaintiffs to actual damages under specified circumstances. Specifically, Newport News Shipbuilding and Dry Dock Co., Newport News, VA was acquired by Northrup Grumman Corporation and became Northrup Grumman Newport News. Ingalls Shipbuilding, Inc., Pascagoula, MS and Avondale Industries, Inc., New Orleans, LA were wholly owned subsidiaries of Litton Industries. Litton Industries was acquired by Northrup Grumman Corporation. Subsequently, Ingalls Shipbuilding, Inc. has changed its name to Northrup Grumman Ship Systems, Inc. (Ingalls Operations). Avondale Industries, Inc. merged into Northrop Grumman Ship Systems, Inc. and changed its name to Northrop Grumman Ship Systems (Avondale Operations). Halter Marine, Inc., Gulfport, MS was acquired by Vision Technologies Systems, Inc. and became VT Halter Marine, Inc.

No other changes have been made in either the membership or planned activity of the group research project. Membership in this group research project remains open, and Advanced Technology Institute intends to file additional written notification disclosing all changes in membership.

On March 13, 1998, Advanced Technology Institute filed its original notification pursuant to section 6(a) of the Act. The Department of Justice published a notice in the Federal Register pursuant to section 6(b) of the Act on January 29, 1999 (64 FR 4708).

The last notification was filed with the Department on October 24, 2001. A notice was published in the Federal Register pursuant to section 6(b) of the Act on January 3, 2002 (67 FR 348).

Constance K. Robinson,
Director of Operations, Antitrust Division.

[FR Doc. 03-4837 Filed 2-28-03; 8:45 am]

BILLING CODE 4410-11-M